DEPARTMENT OF HOUSING AND URBAN DEVELOPMENT

[Docket No. FR-5191-N-10]

Notice of Proposed Information Collection: Comment Request; Interstate Land Sales Full Disclosure Requirements

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: June 30, 2008.

ADDRESSES: Interested persons are invited to submit comments regarding this proposal. Comments should refer to the proposal by name and/or OMB Control Number and should be sent to: Lillian Deitzer, Departmental Reports Management Officer, QDAM, Department of Housing and Urban Development, 451 7th Street, SW., Washington, DC 20410; e-mail Lillian_L._Deitzer@HUD.gov or telephone (202)402-8048.

FOR FURTHER INFORMATION CONTACT: Ivy Jackson., Director, Office of RESPA and Interstate Land Sales, Housing and Urban Development, 451 7th Street SW., Washington, DC 20410, telephone (202) 708-0502 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Interstate Land Sales Full Disclosure Requirements.

OMB Control Number, if applicable: 2502-0243.

Description of the need for the information and proposed use: Non-exempt Developers are required by the Interstate Land Sales Full Disclosure Act to register with HUD and provide purchasers with a property report. The information is used to determine the accuracy of the disclosures in the property report. Developers are required to submit an annual report and annual financial statements. HUD investigates developers who do not comply with the regulations.

Agency form numbers, if applicable: n/a.

Estimation of the total numbers of hours needed to prepare the information collection including number of respondents, frequency of response, and hours of response: The number of burden hours is 34,653. The number of respondents is 1011, the number of responses is 113,997, the frequency of response is on occasion, and the burden hour per response is 117.

Status of the proposed information collection: This is a previously approved collection.

Authority: The Paperwork Reduction Act of 1995, 44 U.S.C., Chapter 35, as amended.

Dated: April 22, 2008.
Frank L. Davis,
General Deputy Assistant Secretary for Housing-Deputy Federal Housing Commissioner.

[FR Doc. E8-9390 Filed 4-29-08; 8:45 am]

BILLING CODE 4210-67-P